NUCLEAR REGULATORY COMMISSION

[Docket No. 50-354]

PSEG Nuclear LLC and Atlantic City Electric Company (Hope Creek Generating Station); Order Extending the Effectiveness of the Approval of the Transfer of License and Conforming Amendment

I

PSEG Nuclear LLC and the Atlantic City Electric Company (ACE) are the joint owners of the Hope Creek Generating Station (HCGS), located in Salem County, New Jersey. They hold Facility Operating License No. NPF-57, issued by the U.S. Nuclear Regulatory Commission (NRC or Commission) on July 25, 1986, pursuant to Part 50 of Title 10 of the Code of Federal Regulations (10 CFR Part 50). Under this license, PSEG Nuclear LLC (currently owner of 95 percent of HCGS) is authorized to act as agent for ACE (owner of the remaining 5 percent of HCGS) and has exclusive responsibility and control over the physical construction, operation, and maintenance of the facility. It is noted that on August 21, 2000, the majority share of the HCGS license was transferred from the Public Service Electric and Gas Company to PSEG Nuclear LLC. This license transfer had previously been approved by an Order dated February 16, 2000.

II

By Order dated April 21, 2000, the Commission approved the transfer of the license for the HCGS, to the extent it is held by ACE, to PSEG Nuclear LLC. By its terms, the Order of April 21, 2000, becomes null and void if the license transfer is not completed by December 31, 2000, unless upon application and for good cause shown, such date is extended by the Commission.

III

By letter dated October 10, 2000, PSEG Nuclear LLC, on behalf of itself and ACE, submitted a request for an extension of the effectiveness of the Order of April 21, 2000, such that it would remain effective until December 31, 2001. According to the submittal, certain regulatory approvals in New Jersey that are needed before ACE can transfer its nuclear interests, which include interests in other facilities in addition to HCGS, are still pending. The submittal states that while the New Jersey Board of Public Utilities (BPU) has approved the transfer of the ACE interests, it has not yet issued a final order covering all aspects of the transaction. Additionally, an appeal of the BPU decision in the Public Service Electric and Gas restructuring case that challenges the BPU's implementation of the deregulation legislation in New Jersey has been filed. The submittal states that this situation has caused ACE to delay the closing on the transfer of its nuclear assets.

The NRC staff has considered the submittal of October 10, 2000, and has determined that good cause has been shown to extend the effectiveness of the Order of April 21, 2000, as requested.

IV

Accordingly, pursuant to Sections 161b and 161i of the Atomic Energy Act of 1954, as amended, 42 U.S.C. 2201(b) and 2201(i), It is Hereby Ordered that the effectiveness of the Order of April 21, 2000, described herein is extended such that if the subject license transfer from ACE to PSEG Nuclear LLC referenced above is not consummated by December 31, 2001, the Order of April 21, 2000, shall become null and void, unless upon application and for good cause shown, such date is further extended.

This Order is effective upon issuance.

For further details with respect to this Order, see the submittal dated October 10, 2000, which may be examined, and/or copied for a fee, at the NRC's Public Document Room, located at One White Flint North, 11555 Rockville Pike (first floor), Rockville, MD, and accessible electronically through the ADAMS Public Electronic Reading Room link at the NRC Web site: http://www.nrc.gov.

Dated at Rockville, Maryland, this 19th day of December 2000.
For the Nuclear Regulatory Commission.
Samuel J. Collins,
Director, Office of Nuclear Reactor Regulation.

[FR Doc. 00-32830 Filed 12-22-00; 8:45 am]

BILLING CODE 7590-01-P